DEPARTMENT OF THE INTERIOR

Bureau of Land Management

[LLCAD07000, L51010000.FX0000.LVRWB10B4050]

Notice of Availability of the San Diego Gas & Electric Ocotillo Sol Solar Project Draft Environmental Impact Statement and Draft California Desert Conservation Area Plan Amendment, Imperial County, CA

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) and Draft California Desert Conservation Area (CDCA) Plan Amendment for the San Diego Gas & Electric (SDG&E) Ocotillo Sol Solar Project in Imperial County, California, and by this notice is announcing the opening of the comment period.

DATES: To ensure that comments will be considered, the BLM must receive written comments on the Draft EIS and Draft CDCA Plan Amendment within 90 days following the date the Environmental Protection Agency publishes its Notice of Availability in the Federal Register. The BLM will announce future meetings or hearings and any other public involvement activities at least 15 days in advance through public notices, news media releases, and/or mailings.

ADDRESSES: You may submit comments related to the SDG&E Ocotillo Sol Solar Project by any of the following methods:

• Web site: http://www.blm.gov/ca/st/en/fo/cdd.html.

• Email: BLM_CA_Ocotillo_Sol_Comments@blm.gov.

• Fax: 951-697-5299, Attn: Noel Ludwig.

• Mail: California Desert District Office, Attn: Noel Ludwig, 22835 Calle San Juan de los Lagos, Moreno Valley, California 92553.

Copies of the SDG&E Ocotillo Sol Solar Project Draft EIS and Draft CDCA Plan Amendment are available in the California Desert District Office at the above address and at the El Centro Field Office, 1661 S. 4th Street, El Centro, California 92243.

FOR FURTHER INFORMATION CONTACT: Noel Ludwig, Project Manager, telephone 951-697-5368; address 22835 Calle San Juan de Los Lagos, Moreno Valley, California 92553; or email CA_BLM_Ocotillo_Sol_Comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has received a right-of-way (ROW) application from SDG&E to construct, operate, maintain, and decommission the Ocotillo Sol project, a solar photovoltaic (PV) power plant facility, on approximately 115 acres of BLM-administered public lands in Imperial County, California. The site for the solar facility would be adjacent to the existing Imperial Valley Substation (IVS), 4 miles south of Interstate 8, approximately 5 miles north of the United States-Mexico border, 5 miles south of Seeley, 9 miles southwest of El Centro, and 82 miles east of San Diego. The proposed project site is located within the BLM's CDCA, the BLM's Yuha Basin Area of Critical Environmental Concern, and the Yuha Desert Management Area for flat-tailed horned lizard. A portion of the Juan Bautista de Anza National Historic Trail lies approximately 5 miles southwest of the project site at its closest point, and runs approximately north-south. The Jacumba Mountains Wilderness lies 11.7 miles to the west of the project site.

All proposed project components, including a temporary 15-acre construction lay-down area, would be located on BLM-administered lands subject to a ROW grant. The proposed Ocotillo Sol project components would include the PV modules and mounting structures, a maintenance building with an associated parking area, internal roads, inverters, transformers, and the combining switchgear. An existing road to the IVS would provide access to the proposed project site. New minor internal roads would be constructed between the module rows. The interconnection to the IVS would be via underground trench. Once approved and operational, the proposed Ocotillo Sol project is expected to have a 15 to 20 megawatt generating capacity, depending on the specific technology chosen.

In connection with its decision on the proposed Ocotillo Sol project, the BLM will also include consideration of potential amendments to the CDCA land use plan, as analyzed in the Draft EIS alternatives. The CDCA plan, while recognizing the potential compatibility of solar energy facilities on public lands, requires that all sites associated with power generation or transmission not identified in the Plan be considered through the land use plan amendment process. The BLM is deciding whether to amend the CDCA Plan to identify the Ocotillo Sol project site as available or unavailable for solar development. The Draft EIS describes the following five alternatives: (1) No Action/No CDCA Plan Amendment; (2) the Applicant's Proposed Project to construct, operate, maintain, and decommission a 100-acre solar PV facility on BLM-managed lands under an authorized ROW, plus use of a 15-acre temporary ROW for construction laydown; (3) a Reduced Footprint Alternative which would retain the 100-acre facility but reduce the laydown area from 15 acres to 2 acres; (4) No Action/Amend the CDCA Plan to identify the area as suitable for solar development; and (5) No Action/Amend the CDCA Plan to identify the area as unsuitable for solar development. All of the alternatives except the No Action/No CDCA Plan Amendment would include an amendment to the CDCA Plan. The BLM has identified the Reduced Footprint Alternative as the Preferred Alternative. The issues evaluated in the Draft EIS include the physical, biological, cultural, socioeconomic, and other resources that have the potential to be affected by the proposed project and alternatives. The issues are air quality, greenhouse gases and climate change, geology and soil resources, water resources, biological resources, cultural resources, paleontological resources, fire and fuels, lands and realty, special designations, recreation, visual resources, transportation and public access, noise and vibration, public health and safety, hazardous materials, socioeconomics, and environmental justice.

The BLM hosted two public scoping meetings in El Centro, California, on August 10, 2011. Both the afternoon and evening meetings were held at the Imperial County Executive Office. A news media release to introduce the project to the public and provide information about scoping meetings was issued on July 15, 2011 to local and regional newspapers, television and radio stations, and via the BLM Web site. During the public scoping period, two Federal agencies, eight special interest groups, and three individuals provided comments.

Please note that public comments and information submitted—including names, street addresses, and email addresses of persons who submit comments—will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2

Cynthia Staszak,
Acting Deputy State Director, California.

[FR Doc. 2012-11667 Filed 5-9-12; 4:15 pm]

BILLING CODE 4310-40-P